NUCLEAR REGULATORY COMMISSION

10 CFR Part 20

Public Meeting on Consideration of Rulemaking To Reduce the Likelihood of Funding Shortfalls for Decommissioning Under the License Termination Rule

AGENCY: Nuclear Regulatory Commission.

ACTION: Notice of meeting.

SUMMARY: The Nuclear Regulatory Commission (NRC) is working on a proposed rule to reduce the likelihood that a licensee will have insufficient funds to decommission its facility in accordance with 10 CFR part 20, Subpart E, Radiological Criteria for License Termination. In the past, these funding shortfalls resulted in “legacy sites,” which are sites that are in decommissioning but whose operators do not have enough funds to complete the work and terminate the license in accordance with NRC regulations. All of the legacy sites have been materials facilities, primarily those that processed uranium and thorium, with undetected subsurface contamination from operations arising as a significant problem during decommissioning. A risk-informed approach addressing subsurface contamination at operating facilities would affect materials licensees and operators of nuclear power reactors. The purpose of the meeting is to give stakeholders an opportunity to discuss their views and interact with other interested parties on the regulatory issues summarized in the Supplementary Information section of this document.

To aid in the rulemaking process, NRC is holding a public meeting with a “roundtable” format (defined further in the body of this notice) to solicit input. The meeting is open to the public. The NRC is asking those planning to attend the meeting to pre-register by contacting Jayne McCausland as noted under the For Further Information section of this document. Individuals unable to attend the meeting will be able to listen by teleconference.

DATES: The meeting will be held on January 10, 2007, from 9 a.m. to 4 p.m. Registration is from 8:30 a.m. to 9 a.m.; however, all persons planning to attend the meeting are encouraged to pre-register in order to facilitate check-in on the day of the meeting.

ADDRESSES: Residence Inn Bethesda Downtown, 7335 Wisconsin Avenue, Bethesda, Maryland, 20814. Telephone (301) 718-0200.

FOR FURTHER INFORMATION CONTACT: Kevin O'Sullivan, telephone (301) 415-8112, e-mail kro2@nrc.gov, of the Office of Federal and State Materials and Environmental Management Programs, U.S. Nuclear Regulatory Commission, Washington, DC 20555-0001. Questions on the meeting format, including participation in the roundtable, should be directed to the meeting facilitator, Lance Rakovan. Mr. Rakovan can be reached at (301) 415-2589 or ljr2@nrc.gov. To pre-register to attend the meeting in person or to participate via teleconference, or if a participant has special needs, please contact Jayne McCausland, telephone (301) 415-6219, fax (301) 415-5369, or e-mail jmm2@nrc.gov.

SUPPLEMENTARY INFORMATION: Current NRC regulations in 10 CFR part 20, Subpart F, Surveys and Monitoring, require licensees to conduct surveys, as reasonable under the circumstances, to evaluate (1) the magnitude and extent of radiation levels; (2) concentrations or quantities of radioactive material; and (3) the potential radiological hazards. NRC regulations in 10 CFR 20, Subpart L, Records, contain related record-keeping requirements. There have been past occurrences among materials licensees, and recent occurrences at nuclear power reactors, of inadvertent and undetected release of radioactive material into the underlying soils and groundwater. Such undetected subsurface contamination from operations may significantly expand the scope of decommissioning when the facility is shut down, to the extent that the licensee has insufficient funds to terminate the license in accordance with NRC regulations.

Amendments to NRC regulations are under consideration that will affect both facility operations and financial assurance for decommissioning requirements. One proposed change would require each NRC licensee to conduct operations, to the extent practicable, so as to minimize the presence of contamination in the subsurface environment. A second would require certain licensees, based on their capability for causing long-lasting subsurface contamination, to check for the presence of such contamination. NRC experience with legacy sites demonstrates that soil or groundwater contamination, if not addressed during the operating life of the facility, can increase decommissioning costs to levels much higher than initially funded and may contribute to off-site radionuclide migration, causing additional expense and delay in returning the site to other productive uses.

Another regulatory amendment under consideration is to eliminate the escrow account as an approved financial assurance mechanism due to its ineffectiveness in bankruptcy actions. Two other financial assurance mechanisms that pose similar financial risk during bankruptcy are the unsecured Parent Company Guarantee and unsecured Self-Guarantee. Reliance on these financial assurance mechanisms may increase the likelihood of future legacy sites.

The January 10, 2007, public meeting is being held to discuss these and related issues using a “roundtable” format. Participants at the roundtable will be the invited stakeholders representing the broad spectrum of interests who may be affected by this rulemaking. The roundtable format is being used for this meeting to promote a dialogue among the representatives at the table on the issues of concern. Opportunities will be provided for comments and questions from the audience. The meeting notice and a meeting agenda will be posted on the NRC Web site at: http://www.nrc.gov/public-involve/public-meetings/index.cfm.

Dated at Rockville, Maryland, this 6th day of December 2006.
For the Nuclear Regulatory Commission.
Dennis Rathbun,
Director, Division of Intergovernmental Liaison and Rulemaking, Office of Federal and State Materials and Environmental Management Programs.

[FR Doc. E6-21154 Filed 12-12-06; 8:45 am]

BILLING CODE 7590-01-P